FEDERAL COMMUNICATIONS COMMISSION

Notice of Public Information Collection(s) Being Submitted for Review to the Office of Management and Budget, Comments Requested

June 4, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 10, 2009. If you anticipate that you will be submitting PRA comments but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to Judith-B.Herman@fcc.gov, Federal Communications Commission, or an e-mail to PRA@fcc.gov. To view a copy of this information collection request (ICR) submitted to OMB: (1) Go to the Web page http://reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0931.

Title: Sections 0.131 and 80.103, Digital Selective Calling (DSC) Operating Procedures—Maritime Mobile Identity (MMSI).

Form Number: N/A.

Type of Review: Extension of an existing collection.

Respondents: Individuals or households, businesses or other for-profit and Federal Government.

Number of Respondents and Responses: 40,000 respondents; 40,000 responses.

Estimated Time per Response: .25 hours.

Frequency of Response: On occasion reporting requirement and third party disclosure requirement.

Obligation To Respond: Required to obtain or retain benefits. There is no statutory authority for this information collection. The reporting requirement is in international agreements and ITU-R M.541-9.

Total Annual Burden: 10,000 hours.

Total Annual Cost: None.

Privacy Act Impact Assessment: Yes.

Nature and Extent of Confidentiality: There is a need for confidentiality with respect to all owners of Marine VHF radios with Digital Selective Calling (DSC) capability in this information collection. Pursuant to section 208(b) of the E-Government Act of 2002, 44 U.S.C. 3501, in conformance with the Privacy Act of 1974, 5 U.S.C. 552(a), the Wireless Telecommunications Bureau instructs licensees to use the FCC Universal Licensing System (ULS), Antenna Structure Registration (ASR), Commission Registration System (CORES) and related systems and subsystems to submit information. CORES is used to receive an FCC Registration Number (FRN) and password, after which one must register all current call signs and ASR numbers associated with a FRN within the bureau's system of records (ULS database). Although ULS stores all information pertaining to the individual license via the FRN, confidential information is accessible only by persons or entities that hold the password for each account, and the bureau's Licensing Division staff. Upon the request of FRN, the individual licensee is consenting to make publicly available, via the ULS database, all information that is not confidential in nature.

Needs and Uses: The Commission will submit this information collection to the OMB for review and approval in order to obtain the full three-year clearance from them. The Commission is requesting approval of an extension (no change in the reporting and/or third party disclosure requirements). There is a significant increase in the estimated burden hours, which is due to an adjusted increase in the number of respondents/responses, which was 2,000 in 2006 and 40,000 at this time of submission to the OMB. Therefore, the hourly burden has increased from 1,000 hours in 2006 to 10,000 hours at this time.

This information collection is necessary to require owners of marine VHF radios with Digital Selective Calling (DSC) capability to register information such as name, address, and type of vessel, with a private entity issuing marine mobile service identities (MMSI). The Commission collects this information and assigns MMSIs through the ship station licensing process; however, those ship stations operating domestically are not required to obtain an individual license and are licensed by rule. The Commission developed procedures to privatize the issuance of MMSIs by providing blocks of MMSI numbers to qualified entities for distribution to ship vessel operators that are not required by law to carry a radio and do not make international voyages or communications.

The Commission has a Memorandum of Understanding (MOU) with the U.S. Coast Guard and the private entities to collect the data that is on Attachment A. The information would be used by search and rescue personnel to identify vessels in distress and to select the proper rescue units and search methods. The requirement to collect this information is not contained in a formal FCC order, but in the agreements the FCC executes with private sector entities that issue MMSIs and 47 CFR 80.103, which requires ship owners using VHF radios with DSC to have an MMSI.

The information is used by private entities to maintain a database used to provide information about the vessel owner in distress using marine VHF radios with DSC capability. If the collection were not conducted, the U.S. Coast Guard would not have access to this information, which would increase the time needed to complete a search and rescue operation.

Federal Communications Commission.
Marlene H. Dortch,
Secretary.

[FR Doc. E9-13645 Filed 6-9-09; 8:45 am]

BILLING CODE 6712-01-P